DEPARTMENT OF TRANSPORTATION

Federal Aviation Administration

14 CFR Part 39

[Docket No. FAA-2012-0035; Directorate Identifier 2011-NM-178-AD; Amendment 39-17094; AD 2012-12-14]

RIN 2120-AA64

Airworthiness Directives; The Boeing Company Airplanes

AGENCY: Federal Aviation Administration (FAA), DOT.

ACTION: Final rule.

SUMMARY: We are adopting a new airworthiness directive (AD) for certain The Boeing Company Model 767-200 and -300 series airplanes. This AD was prompted by reports of fatigue cracking on the lower main sill inner chord of the hatch opening of the overwing emergency exit. This AD requires repetitive inspections for cracking, corrosion damage, and any other irregularity of the lower main sill inner chord and surrounding structure, and repair if necessary. We are issuing this AD to detect and correct fatigue cracking on the lower main sill inner chord of the hatch opening of the overwing emergency exit, which could result in reduced structural integrity of the hatch opening of the overwing emergency exit and consequent rapid decompression of the airplane.

DATES: This AD is effective July 30, 2012.

The Director of the Federal Register approved the incorporation by reference of a certain publication listed in the AD as of July 30, 2012.

ADDRESSES: For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Berhane Alazar, Aerospace Engineer, Airframe Branch, ANM-120S, FAA, Seattle Aircraft Certification Office, 1601 Lind Avenue SW., Renton, Washington 98057-3356; phone: 425-917-6577; fax: 425-917-6590; email: berhane.alazar@faa.gov.

SUPPLEMENTARY INFORMATION:

Discussion

We issued a notice of proposed rulemaking (NPRM) to amend 14 CFR part 39 to include an AD that would apply to the specified products. That NPRM published in the Federal Register on January 23, 2012 (77 FR 3187). That NPRM proposed to require repetitive inspections for cracking, corrosion damage, and any other irregularity of the lower main sill inner chord and surrounding structure, and repair if necessary.

Comments

We gave the public the opportunity to participate in developing this AD. The following presents the comments received on the proposal (77 FR 3187, January 23, 2012) and the FAA's response to each comment.

Request To Clarify Terminating Action and Post-Repair Inspection Program

Boeing requested that we revise the wording in paragraph (g) of the NPRM (77 FR 3187, January 23, 2012) to clarify that the AD terminates only the repetitive inspections required by the NPRM. Boeing also stated that the inspection area designated in the NPRM may be subject to other repetitive inspections following repairs done per another AD.

All Nippon Airways (ANA) requested that we confirm that the post-repair inspection program is not mandatory.

Delta Air Lines (Delta) requested that the NPRM (77 FR 3187, January 23, 2012) be revised to include the use of the “proactive” doubler installations as a terminating action. Delta stated that paragraph (g) of the NPRM authorizes only the on-condition repair as a terminating action. Delta requested that we include a separate paragraph to define the terminating action provisions.

We agree that clarification is needed. Other ADs require inspections of certain structure covered by this AD. The certification basis of the airplane includes damage tolerance inspections for these repairs, and they are already available in the service repair manual (SRM). The required SRM repairs include post-repair inspections. These inspections are required by the regulations identified in the certification basis of the airplane and other operational rules, and not by this AD. We have clarified the terminating action for the inspections in this AD by revising paragraph (g) of this AD and adding paragraph (h) to this AD. To further clarify, the “proactive” doubler installation and the on-condition repair both terminate the inspections.

Request To Clarify the Applicability Regarding the Installation of Winglets

American Airlines (American) requested that we revise the NPRM (77 FR 3187, January 23, 2012) to clearly state how the compliance times for airplanes covered by the applicability of the NPRM are affected by the installation of winglets. American stated that many operators have affected airplanes by this AD which have been modified to have winglets.

Aviation Partners Boeing (APB) stated it has reviewed Boeing Alert Service Bulletin 767-53A0228, dated July 28, 2011, and the NPRM (77 FR 3187, January 23, 2012) as it relates to the APB winglet supplemental type certificate (STC) ST01920SE and determined that the installation of the winglet STC does not affect this proposed rule. APB noted that data to support this comment is available from APB upon request from the FAA. We infer that APB is requesting that we clarify the effect of the STC on the proposed rule.

We agree to clarify. The installation of winglets as specified in STC ST01920SE does not affect accomplishment of the requirements of this AD, and an AMOC is not necessary for a “change in product” AMOC approval request. We have therefore added this provision in new Note 1 to paragraph (c) of this AD.

Request To Allow Re-Sequencing of Steps

American requested that we revise the “Differences Between Proposed AD and the Service Information” paragraph of the preamble, and paragraph (h)(2) of the NPRM (77 FR 3187, January 23, 2012) to allow re-sequencing of “open-up” and “close-up” steps only, while maintaining the sequence for inspection and repair. American stated that allowing re-sequencing of those steps would reduce the number of AMOC requests for tasks that do not address the unsafe condition.

We partially agree with the request. Because the “Differences Between Proposed AD and the Service Information” paragraph is not restated in the final rule, we have not made any change to the AD in that regard. However, we have revised paragraph (i)(2) of this AD (referred to as paragraph (h)(2) in the NPRM (77 FR 3187, January 23, 2012)) to state that “open-up” and “close-up” steps may be done in any practical order.

Change to Paragraph (j)(3) of the NPRM (77 FR 3187, January 23, 2012)

We incorrectly included a reference to 14 CFR 25.571, Amendment 45 in paragraph (i)(3) of the NPRM (77 FR 3187, January 23, 2012). That reference has been removed from this AD.

Conclusion

We reviewed the relevant data, considered the comments received, and determined that air safety and the public interest require adopting the AD with the changes described previously and minor editorial changes. We have determined that these minor changes:

• Are consistent with the intent that was proposed in the NPRM (77 FR 3187, January 23, 2012) for correcting the unsafe condition; and

• Do not add any additional burden upon the public than was already proposed in the NPRM (77 FR 3187, January 23, 2012).

We also determined that these changes will not increase the economic burden on any operator or increase the scope of the AD.

Costs of Compliance

We estimate that this AD affects 377 airplanes of U.S. registry.

We estimate the following costs to comply with this AD:

Estimated Costs
Action | Labor cost | Parts cost | Cost per product | Cost on U.S. operators
Inspection | 28 work-hours × $85 per hour = $2,380 per inspection cycle | $0 | $2,380 per inspection cycle | $897,260 per inspection cycle.

We have received no definitive data that would enable us to provide a cost estimate for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-12-14 The Boeing Company: Amendment 39-17094; Docket No. FAA-2012-0035; Directorate Identifier 2011-NM-178-AD.

(a) Effective Date

This AD is effective July 30, 2012.

(b) Affected ADs

None.

(c) Applicability

This AD applies to The Boeing Company Model 767-200 and -300 series airplanes, certificated in any category, as identified in Boeing Alert Service Bulletin 767-53A0228, dated July 28, 2011.

Note 1 to paragraph (c) of this AD: Supplemental Type Certificate (STC) ST01920SE (http://rgl.faa.gov/Regulatory_and_Guidance_Library/rgstc.nsf/0/082838ee177dbf62862576a4005cdfc0/$FILE/ST01920SE.pdf) does not affect the ability to accomplish the actions required by this AD. Therefore, for airplanes on which STC ST01920SE is installed, a “change in product” alternative method of compliance (AMOC) approval request is not necessary to comply with the requirements of 14 CFR 39.17.

(d) Subject

Joint Aircraft System Component (JASC)/Air Transport Association (ATA) of America Code 53, Fuselage.

(e) Unsafe Condition

This AD was prompted by reports of fatigue cracking on the lower main sill inner chord of the hatch opening of the overwing emergency exit. We are issuing this AD to detect and correct fatigue cracking on the lower main sill inner chord of the hatch opening of the overwing emergency exit, which could result in reduced structural integrity of the hatch opening of the overwing emergency exit and consequent rapid decompression of the airplane.

(f) Compliance

Comply with this AD within the compliance times specified, unless already done.

(g) Repetitive Inspections and Repair

Within the applicable compliance time specified in paragraph 1.E., “Compliance,” of Boeing Alert Service Bulletin 767-53A0228, dated July 28, 2011, except as provided by paragraph (i)(3) of this AD: Do a high frequency eddy current (HFEC) inspection for cracking of the lower main sill inner chord around body station (STA) 883.5; a detailed inspection for cracking, corrosion damage, and any other irregularity, of the lower main sill inner chord and surrounding structure around STA 883.5; and a detailed inspection for cracking, corrosion damage, or other irregularity, of the lower main sill inner chord and surrounding structure around STA 903.5; as applicable; and do all applicable repairs; in accordance with the Accomplishment Instructions of Boeing Alert Service Bulletin 767-53A0228, dated July 28, 2011, except as required by paragraphs (i)(1) and (i)(2) of this AD. Do all applicable repairs before further flight. Repeat the applicable inspections thereafter within the applicable times and intervals specified in paragraph 1.E., “Compliance,” of Boeing Alert Service Bulletin 767-53A0228, dated July 28, 2011. Doing a structural repair specified in paragraph (h) of this AD, terminates the inspections for that location only.

(h) Optional Terminating Action

Doing a structural repair (doubler installation) in accordance with the Accomplishment Instructions of Boeing Alert Service Bulletin 767-53A0228, dated July 28, 2011, terminates the inspections required by paragraph (g) of this AD for that location only.

(i) Exceptions

(1) If any cracking, corrosion damage, or other irregularity is found during any inspection required by this AD, and Boeing Alert Service Bulletin 767-53A0228, dated July 28, 2011, specifies to contact Boeing for appropriate action: Before further flight, repair the cracking, corrosion damage, or other irregularity, using a method approved in accordance with the procedures specified in paragraph (j) of this AD.

(2) Where Boeing Alert Service Bulletin 767-53A0228, dated July 28, 2011, specifies that the sequence of steps to do the actions can be changed, this AD does not allow the sequence of steps to be changed for the inspection and repair; however, the open-up and close-up steps may be done in any practical order.

(3) Where Boeing Alert Service Bulletin 767-53A0228, dated July 28, 2011, specifies a compliance time “after the original issue date of this service bulletin,” this AD requires compliance within the specified compliance time “after the effective date of this AD.”

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

(k) Related Information

For more information about this AD, contact Berhane Alazar, Aerospace Engineer, Airframe Branch, ANM-120S, FAA, Seattle Aircraft Certification Office, 1601 Lind Avenue SW., Renton, Washington 98057-3356; phone: 425-917-6577; fax: 425-917-6590; email: berhane.alazar@faa.gov.

(l) Material Incorporated by Reference

(1)You must use the following service information to do the actions required by this AD, unless the AD specifies otherwise. The Director of the Federal Register approved the incorporation by reference (IBR) of the following service information under 5 U.S.C. 552(a) and 1 CFR part 51:

(i) Boeing Alert Service Bulletin 767-53A0228, dated July 28, 2011.

(2) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal-register/cfr/ibr-locations.html.

Issued in Renton, Washington, on June 7, 2012.
Michael Kaszycki,
Acting Manager, Transport Airplane Directorate, Aircraft Certification Service.

[FR Doc. 2012-14829 Filed 6-22-12; 8:45 am]

BILLING CODE 4910-13-P